DEPARTMENT OF HOMELAND SECURITY

Coast Guard

[Docket No. USCG-2025-0145]

Great Lakes Pilotage Advisory Committee Meeting; July 2025 Meeting

AGENCY: U.S. Coast Guard, Department of Homeland Security.

ACTION: Notice of open Federal advisory committee meeting.

SUMMARY: The Great Lakes Pilotage Advisory Committee (Committee) will meet in Port Huron, Michigan to discuss matters relating to Great Lakes Pilotage, including the review of proposed Great Lakes Pilotage regulations and policies. The meeting will be open to the public.

DATES:

Meeting: The Committee will meet on Wednesday, July 23, 2025, from 9 a.m. to 5:30 p.m. Eastern Daylight Time (EDT). Please note that this meeting may adjourn early if the Committee has completed its business.

Comments and supporting documentations: To ensure your comments are received by Committee members before the meeting, submit your written comments no later than 1 p.m., July 16, 2025.

ADDRESSES: The meeting will be held in the conference room at the DoubleTree Hotel, 800 Harker Street, Port Huron, MI 48060. DoubleTree Hotels in Port Huron, MI—Find Hotels—Hilton.

Pre-registration Information: Pre-registration is not required for access to the meeting.

The Great Lakes Pilotage Advisory Committee is committed to ensuring all participants have equal access regardless of disability status. If you require reasonable accommodation due to a disability to fully participate, please email Mr. Francis Levesque at Francis.R.Levesque@uscg.mil. or call (571) 308-4941 as soon as possible.

Instructions: You are free to submit comments at any time, including orally at the meeting, but if you want Committee members to review your comment before the meeting, please submit your comments no later than 1 p.m., July 16, 2025. We are particularly interested in comments on the topics in the “Agenda” section below. We encourage you to submit comments through the Federal Decision Making Portal at https://www.regulations.gov. To do so, go to https://www.regulations.gov, type USCG-2025-0145 in the search box and click “Search”. Next, look for this document in the Search Results column and click on it. Then click on the Comment option. If your material cannot be submitted using https://www.regulations.gov., email the individual in the FOR FURTHER INFORMATION CONTACT section of this document for alternate instructions. You must include the docket number USCG-2025-0145. Comments received will be posted without alteration at https://www.regulations.gov including any personal information you provided. You may wish to view the Privacy and Security Notice found via link on the homepage of https://www.regulations.gov. For more about the privacy and submissions in response to this document, see DHS's eRulemaking System of Records notice (85 FR 14226, March 11, 2020). If you encounter technical difficulties with comment submission, contact the individual listed in the FOR FURTHER INFORMATION CONTACT section of this notice.

Docket Search: Documents mentioned in this notice as being available in the docket, and all public comments, will be in our online docket at https://www.regulations.gov and can be viewed by following that website's instructions. Additionally, if you go to the online docket and sign-up for email alerts, you will be notified when comments are posted.

FOR FURTHER INFORMATION CONTACT: Mr. Francis Levesque, Alternate Designated Federal Officer of the Great Lakes Pilotage Advisory Committee, telephone (571) 308-4941 or email Francis.R.Levesque@uscg.mil.

SUPPLEMENTARY INFORMATION: Notice of this meeting is in compliance with the Federal Advisory Committee Act (Pub. L. 117-286, 5 U.S.C. ch. 10). The Committee is established under the authority of 46 U.S.C. 9307 and makes recommendations to the Secretary of Homeland Security and the U.S. Coast Guard on matters relating to Great Lakes Pilotage, including review of proposed Great Lakes Pilotage regulations and policies.

Agenda

The Great Lakes Pilotage Advisory Committee will meet on Wednesday, July 23, 2025, to review, discuss, deliberate and formulate recommendations, as appropriate on the following topics:

1. Rulemaking Update.

2. Financial Report Update.

3. Great Lakes Pilotage Advisory Committee Meetings.

4. Canadian Regulations.

5. Rule Making Process.

6. Role of the Pilot.

7. National Transportation Safety Board Maritime Safety Overview.

8. Mandatory Change Points and Recuperative Rest.

9. Ratemaking Methodology.

10. Great Lakes Pilotage Memorandum of Understanding Update.

11. Dispatching.

12. American Great Lakes Pilot Associations Project Update.

13. Pilot Staffing Report.

14. Reciprocity.

15. Public Comments.

16. Closing Remarks and Adjournment of Meeting.

A copy of all meeting documentation will be available at https://www.dco.uscg.mil/Our-Organization/Assistant-Commandant-for-Prevention-Policy-CG-5P/Marine-Transportation-Systems-CG-5PW/Office-of-Waterways-and-Ocean-Policy/Great-Lakes-Pilotage-Advisory-Committee/ by July 16, 2025. Alternatively, you may contact Mr. Francis Levesque as noted in the FOR FURTHER INFORMATION CONTACT section above.

Public comments or questions will be taken throughout the meeting as the Committee discusses the issues and prior to deliberations and voting. There will also be a public comment period at the end of the meeting.

Speakers are requested to limit their comments to 5 minutes. Contact the individual listed in the FOR FURTHER INFORMATION CONTACT section above, to register as a speaker.

Dated: June 17, 2025.
Michael D. Emerson,
Director, Marine Transportation Systems.

[FR Doc. 2025-11452 Filed 6-20-25; 8:45 am]

BILLING CODE 9110-04-P